CONSUMER FINANCIAL PROTECTION BUREAU

Guidance on Referrals for Potential Criminal Enforcement

AGENCY: Consumer Financial Protection Bureau

ACTION: Policy statement

SUMMARY: The Consumer Financial Protection Bureau (CFPB or Bureau) is issuing this policy statement to describe its plan to address criminally liable regulatory offenses.

DATES: This policy statement is applicable on June 27, 2025.

FOR FURTHER INFORMATION CONTACT: Dave Gettler, Paralegal Specialist, Office of Regulations, at 202-435-7700. If you require this document in an alternative electronic format, please contact CFPB_Accessibility@cfpb.gov.

SUPPLEMENTARY INFORMATION:

I. Policy Statement

On May 9, 2025, the President issued Executive Order (“E.O.”) 14294, Fighting Overcriminalization in Federal Regulations.¹ Section 7 of E.O. 14294 provides that within 45 days of the order, and in consultation with the Attorney General, each agency should publish guidance in the Federal Register describing its plan to address criminally liable regulatory offenses. The E.O. defines a “criminal regulatory offense” as a “Federal regulation that is enforceable by a criminal penalty.” This policy statement constitutes the Bureau's plan to address criminally liable regulatory offenses.

¹ 90 FR 20363 (May 14, 2025).

The Bureau administers and civilly enforces Federal consumer financial law,² which includes the Consumer Financial Protection Act and several other statutes, such as the Truth in Lending Act, the Real Estate Settlement Procedures Act, and the Electronic Fund Transfer Act.³ The Bureau has issued regulations under these laws, and some of those regulations are enforceable by a criminal penalty. For instance, “whoever willfully and knowingly gives false or inaccurate information or fails to provide information which he is required to disclose under the [Truth in Lending Act] or any regulation issued thereunder . . . shall be fined not more than $5,000 or imprisoned not more than one year, or both.” ⁴

² 12 U.S.C. 5511(a).

³ 12 U.S.C. 5481(14).

⁴ 15 U.S.C. 1611(a)(1); see also, e.g., 15 U.S.C. 1693n(a)(1) (“Whoever knowingly and willingly gives false or inaccurate information or fails to provide information which he is required to disclose by [the Electronic Fund Transfer Act] or any regulation thereunder . . . shall be fined not more than $5,000 or imprisoned not more than one year, or both.”); 15 U.S.C. 1717 (“Any person who willfully violates any of the provisions of [the Interstate Land Sales Full Disclosure Act] or the rules and regulations prescribed pursuant thereto . . . shall upon conviction be fined not more than $10,000 or imprisoned not more than five years, or both.”); Regulation X, 12 CFR 1024.14(a) (implementing 12 U.S.C. 2607) (“Any violation of this section is a violation of [12 U.S.C. 2607],” which, in turn, is punishable by a fine of “not more than $10,000” or imprisonment “for not more than one year, or both”).

Where appropriate, the Bureau may refer alleged violations of these criminal regulatory offenses to the Department of Justice. For instance, in the course of an enforcement investigation, the Bureau may obtain credible evidence that a person has committed a criminal regulatory offense, and the Bureau may (where appropriate) refer such an offense to the Department of Justice.

In exercising discretion in making referrals of criminal regulatory offenses, Bureau officials will consider the following factors, among others:

• the harm or risk of harm, pecuniary or otherwise, caused by the alleged offense;

• the potential gain to the putative defendant that could result from the offense;

• whether the putative defendant held specialized knowledge, expertise, or was licensed in an industry related to the rule or regulation at issue; and

• evidence, if any is available, of the putative defendant's general awareness of the unlawfulness of his conduct as well as his knowledge or lack thereof of the regulation at issue.

Consistent with the E.O., the Bureau also intends to take the following steps to address criminal regulatory offenses:

• The Bureau will provide within 365 days of the E.O. (and in consultation with the Attorney General), a report to the Director of the Office of Management and Budget (OMB) containing: (i) a list of all criminal regulatory offenses enforceable by the Bureau or the Department of Justice; and (ii) for each such criminal regulatory offense, the range of potential criminal penalties for a violation and the applicable mens rea standard for the criminal regulatory offense. The Bureau will simultaneously post this report on its web page and periodically (but not less than once a year) update the report.

• The Bureau will consider whether a criminal regulatory offense is included in this report when considering whether to make a criminal referral to the Department of Justice or, where applicable, to the Bureau's Inspector General.

• The Bureau will, in consultation with the Attorney General, examine the Bureau's statutory authorities and determine whether there is authority to adopt a background mens rea standard for criminal regulatory offenses that applies unless a specific regulation states an alternative mens rea. Within 30 days of the submission of the report described above, the Bureau, in consultation with the Attorney General, will submit a report to the Director of OMB summarizing the information submitted in the report described above and assessing whether the applicable mens rea standards for criminal regulatory offenses enforced by the agency are appropriate. If consistent with the statutory authorities identified pursuant to the review described above, the report will present a plan for changing the applicable mens rea standards and adopting a generally applicable background mens rea standard, and provide a justification for each criminal regulatory offense for which the Bureau proposes to deviate from its default mens rea standard.

• In all future notices of proposed rulemaking (NPRMs) and final rules published in the Federal Register, the violation of which may constitute criminal regulatory offenses, the Bureau intends to include a statement identifying that the rule or proposed rule is a criminal regulatory offense and the authorizing statute. The Bureau will draft this statement in consultation with the Department of Justice. In addition, when formulating the regulatory text of Bureau NPRMs and final rules with criminal consequences that are published in the Federal Register, the Bureau intends to explicitly state a mens rea requirement for each element of a criminal regulatory offense, accompanied by citations to the relevant provisions of the authorizing statute.

II. Regulatory Matters

This is a general statement of policy under the Administrative Procedure Act.⁵ It articulates considerations relevant to the Bureau's exercise of its authorities. It does not have the force and effect of law; it has no legally binding effect, including no legally binding effect on persons or entities outside the Federal government; it is not final agency action; and it may be rescinded or modified in the Bureau's complete discretion.

⁵ See 5 U.S.C. 553(b). However, this is not a “statement of policy” as that term is used in the specific context of Regulation X, 12 CFR 1024.4(a)(1)(ii).

This action does not impose any new or revise any existing recordkeeping, reporting, or disclosure requirements on covered entities or members of the public that would be collections of information requiring approval by the Office of Management and Budget under the Paperwork Reduction Act.⁶

⁶ 44 U.S.C. 3501 et seq.

Russell Vought,
Acting Director, Consumer Financial Protection Bureau.

[FR Doc. 2025-11982 Filed 6-26-25; 8:45 am]

BILLING CODE 4810-AM-P